DEPARTMENT OF LABOR

Notice of Update to the Department of Labor's List of Goods Produced by Child Labor or Forced Labor

AGENCY: The Bureau of International Labor Affairs, United States Department of Labor.

ACTION: Notice: Announcement of public availability of updated list of goods produced by child labor or forced labor.

SUMMARY: This notice announces the publication of an update to the list of goods—along with countries of origin—that the Bureau of International Labor Affairs (ILAB) has reason to believe are produced by child labor or forced labor in violation of international standards (the List). ILAB is required to develop and make available to the public the List pursuant to the Trafficking Victims Protection Reauthorization Act (TVPRA of 2005), amended.

FOR FURTHER INFORMATION CONTACT: Director, Office of Child Labor, Forced Labor, and Human Trafficking, Bureau of International Labor Affairs, U.S. Department of Labor at (202) 693-4843 (this is not a toll free number) or ILAB-TVPRA@dol.gov. Individuals with hearing or speech impairments may access the telephone number above via TTY by calling the Federal Information Relay Service at 1-877-889-5627.

SUPPLEMENTARY INFORMATION: The Bureau of International Labor Affairs (ILAB) announces an update to the ninth edition of the List of Goods Produced by Child Labor or Forced Labor (List), pursuant to the Trafficking Victims Protection Reauthorization Act (TVPRA) of 2005, as amended (TVPRA). ILAB published the initial List on September 10, 2009, and has since published nine updated editions. This 2021 update to the ninth edition contains one additional good (polysilicon) from one country (China).

Section 105(b) of the Trafficking Victims Protection Reauthorization Act of 2005 (“TVPRA of 2005”), Public Law 109-164 (2006), 22 U.S.C 7112(b), as amended by Section 133 of the Frederick Douglass Trafficking Victims Prevention and Protection Reauthorization Act of 2018, Public Law 115-425, directs the Secretary of Labor, acting through ILAB, to “develop and make available to the public a list of goods from countries that ILAB has reason to believe are produced by forced labor or child labor in violation of international standards, including, to the extent practicable, goods that are produced with inputs that are produced with forced labor or child labor.” (TVPRA List).

The primary purposes of the List are to raise public awareness about the incidence of child labor and forced labor in the production of goods in the countries listed and to promote efforts to eliminate such practices. The 2020 report, including a discussion of the List's methodology, the updated List, and an updated bibliography of sources, are available on the Department of Labor website at: http://www.dol.gov/ilab/reports/child-labor/list-of-goods/.

(Authority: 22 U.S.C. 7112(b)(2)(C))

Signed at Washington, DC, this 14 day of June, 2021.
Thea Lee,
Deputy Undersecretary for International Affairs.

[FR Doc. 2021-12894 Filed 6-22-21; 8:45 am]

BILLING CODE 4510-28-P